FEDERAL COMMUNICATIONS COMMISSION

47 CFR Part 9

[PS Docket No. 07-114; FCC 21-11, FRS 17452]

Wireless E911 Location Accuracy Requirements

AGENCY: Federal Communications Commission.

ACTION: Final rule.

SUMMARY: In this document, the Commission adopted an Order on Reconsideration that dismisses two petitions for reconsideration filed by CTIA and the Association of Public-Safety Communications Officials-International, Inc. (APCO) with respect to the Sixth Report and Order. As an alternative and independent ground for resolving the issues raised, the Commission denies the petitions on the merits.

DATES: Effective Date: March 11, 2021.

FOR FURTHER INFORMATION CONTACT: Rachel Wehr, Law Clerk, Policy and Licensing Division, Public Safety and Homeland Security Bureau, (202) 418-1138 or via email at Rachel.Wehr@fcc.gov.

SUPPLEMENTARY INFORMATION: This is a summary of the Commission's Order on Reconsideration, FCC 21-11, adopted and released on January 11, 2021. The complete text of this document is available for public inspection on the Commission's website at https://docs.fcc.gov/public/attachments/FCC-21-11A1.pdf. To request materials in accessible formats for people with disabilities (braille, large print, electronic files, audio format), send an email to FCC504@fcc.gov or call the Consumer & Governmental Affairs Bureau at (202) 418-0530 (voice), (202) 418-0432 (TTY).

Synopsis

1. The Order on Reconsideration dismisses two petitions for reconsideration of the Sixth Report and Order, 85 FR 53234 (Aug. 28, 2020), filed by CTIA and APCO, 85 FR 66333 (Oct. 19, 2020), as procedurally defective and, in the alternative, denies these petitions on their merits. In the Fifth Report and Order, 85 FR 2660 (Jan. 16, 2020), the Commission adopted a z-axis (vertical) location accuracy metric of plus or minus 3 meters for 80 percent of indoor wireless Enhanced 911 (E911) calls for z-axis capable handsets. The Commission also required nationwide commercial mobile radio service (CMRS) providers to deploy dispatchable location or z-axis technology that meets this metric in the top 25 markets by April 3, 2021 and in the top 50 markets by April 3, 2023. In a companion Fifth Further Notice of Proposed Rulemaking, 85 FR 2683 (Jan. 16, 2020), the Commission proposed rules to improve E911 wireless location accuracy. Among other things, the Commission sought comment on alternative methods for carriers to demonstrate z-axis technology deployment and expanding dispatchable location solutions. In the Sixth Report and Order, the Commission rejected arguments to extend the deployment timeline and added a requirement for nationwide CMRS providers to deploy z-axis location technology nationwide by April 2025. In addition, the Commission required CMRS providers, as of January 6, 2022, to provide dispatchable location for wireless 911 calls if it is technically feasible and cost-effective to do so. The Commission also allowed providers to provide dispatchable location by means other than the National Emergency Address Database (NEAD), which ceased operations subsequent to the release of the Fifth Further Notice of Proposed Rulemaking.

2. CTIA and APCO filed their petitions on September 28 and September 23, 2020, respectively. In its petition, CTIA argued that the COVID-19 pandemic has stalled any ability to validate whether z-axis location solutions can meet the Commission's vertical location accuracy requirements. CTIA also asserted that the compliance timeline adopted by the Commission was premised on vendor promises that “have not panned out” and that time is running out for meeting the April 2021 deadline. According to CTIA, reconsideration of the Sixth Report and Order would provide an opportunity for the Commission to adopt a framework based on the use of mobile OS-based solutions. CTIA asserted that this would provide a “viable path” to achieving “accurate 9-1-1 vertical location information nationwide.” In its reconsideration petition, APCO asked the Commission to require CMRS providers to deliver dispatchable location for a minimum percentage of 911 calls—an alternative that APCO had previously proposed and the Commission rejected—rather than tie the dispatchable location benchmark to the number of address reference points in a location database. In addition, APCO sought reconsideration of the requirement that CMRS providers supply dispatchable location if it is technically feasible and cost effective to do so. APCO took issue with the Commission's prior decision not to adopt its proposal to require dispatchable location for a minimum percentage of calls and disputed the conclusion that a minimum percentage threshold would go beyond what is technically feasible and cost effective.

3. The Commission determined that CTIA's petition for reconsideration of the longstanding timelines for implementing the z-axis was repetitive, untimely, and failed to offer sufficient factual details that would support grant of a waiver to a particular provider. The Commission determined that CTIA's petition was procedurally improper because it repeated arguments raised by other commenters that the Commission fully addressed in the Sixth Report and Order. While the Commission noted in the Sixth Report and Order that the pandemic had created challenges, the Commission declined to change the long-established 2021 deadline. The Commission also stated in the Sixth Report and Order that parties able to show good cause due to pandemic-related hardship could seek a waiver in accordance with the Commission's rules. CTIA failed to offer sufficient factual details about any of its individual member service providers that would support grant of a waiver to any particular provider. The Commission also determined that CTIA's petition to revise the 2021 and 2023 deadlines was untimely, as these deadlines were established in the 2015 Fourth Report and Order. In response to CTIA's argument that postponement of Stage Zb testing created an insurmountable obstacle for meeting the Commission's timelines, the Commission found that it had already determined in the Sixth Report and Order and Fifth Report and Order that compliance was feasible, and the deployment of mobile OS-based technologies had no bearing on that feasibility. In response to CTIA's argument that indoor location accuracy benchmarks are a mandate that providers use barometric sensor-based solutions, the Commission noted that the Sixth Report and Order does not require providers to use any particular technology. The Commission also disagreed with CTIA's claim that the Sixth Report and Order improperly relied on vendors' claims, as the Sixth Report and Order underscored the active role that CMRS providers would need to play in the deployment of z-axis solutions. In addition, the Commission found that, contrary to CTIA's assertions, it had adequately considered the benefits of the nationwide providers' proposed solution in the Sixth Report and Order, and the decision was consistent with Commission precedent. Further, the Commission found that it had reasonably relied on confidence and uncertainty standards in the rules.

4. Similarly, the Commission determined that APCO's petition for reconsideration of certain requirements was repetitive, untimely, and misconstrued the record of this proceeding, which affirms that a diverse array of technological approaches could be used to provide dispatchable location. The Commission determined that APCO's petition for reconsideration was repetitive, as the Commission had already considered and rejected in the Sixth Report and Order APCO's suggestion that the Commission revise its rules to require CMRS providers to provide dispatchable location for a minimum percentage of 911 calls. The Commission also determined that APCO's argument that notice was insufficient for the Commission's decision to convert the NEAD benchmark to an “any database” benchmark misconstrued the record, as the Commission anticipated the possibility of the NEAD's failure in the Fifth Further Notice and proposed allowing CMRS providers to use other databases to support dispatchable location. In addition, the Commission determined that APCO's argument asking the Commission to substitute a dispatchable location requirement based on a minimum percentage of calls was untimely, as the deployment and reference point requirements were adopted in the 2015 Fourth Report and Order. The Commission further found, contrary to APCO's arguments, that the existing reference point benchmark was reasonable and that the demise of the NEAD does not require changing it; in amending the rules to allow alternatives to the NEAD, the Commission made clear that any carrier using a non-NEAD database to support dispatchable location must meet the same technical and functional requirements that would have applied to the NEAD. The Commission affirmed its requirement adopted in the Sixth Report and Order that CMRS carriers provide dispatchable location with wireless E911 calls when it is technically feasible and cost effective to do so. The Commission also found that APCO's proposed percentage-of-calls approach was arbitrary and lacked any showing of technical feasibility or cost-effectiveness.

I. Procedural Matters

5. Paperwork Reduction Act Analysis. This Order on Reconsideration does not contain any new or modified information collection requirements subject to the Paperwork Reduction Act of 1995, Public Law 104-13. Thus, it does not contain any new or modified information collection burden for small business concerns with fewer than 25 employees, pursuant to the Small Business Paperwork Relief Act of 2002, Public Law 107-198, see 44 U.S.C. 3506(c)(4).

6. Congressional Review Act. The Commission will not send a copy of this Order on Reconsideration to Congress and the Government Accountability Office pursuant to the Congressional Review Act, see 5 U.S.C. 801(a)(1)(A), because no rule was adopted or amended.

7. Regulatory Flexibility Act Analysis. In the Sixth Report and Order, the Commission provided a Final Regulatory Flexibility Analysis pursuant to the Regulatory Flexibility Act of 1980, as amended (RFA). We received no petitions for reconsideration of that Final Regulatory Flexibility Analysis. In this present Order on Reconsideration, the Commission promulgates no additional final rules. Our present action is, therefore, not an RFA matter.

II. Ordering Clauses

8. Accordingly, it is ordered that the Petition for Reconsideration filed on September 28, 2020, by CTIA is dismissed and, alternatively and independently, is denied.

9. It is further ordered that the Petition for Reconsideration filed on September 23, 2020, by the Association of Public-Safety Communications Officials-International, Inc. is dismissed and, alternatively and independently, is denied.

10. It is further ordered that this Order on Reconsideration shall be effective thirty days after publication in the Federal Register.

Federal Communications Commission.
Marlene Dortch,
Secretary.

[FR Doc. 2021-02678 Filed 2-5-21; 11:15 am]

BILLING CODE 6712-01-P